FEDERAL COMMUNICATIONS COMMISSION

47 CFR Part 64

[CG Docket No. 03-123; DA 10-761]

Telecommunications Relay Services and Speech-to-Speech Services for Individuals With Hearing and Speech Disabilities

AGENCY: Federal Communications Commission.

ACTION: Proposed rule.

SUMMARY: In this document, the Commission, via the Consumer and Governmental Affairs Bureau (Bureau), seeks comment on the annual payment formulas and funding requirement estimates for the Interstate Telecommunications Relay Services (TRS) Fund (Fund) for the period of July 1, 2010, through June 30, 2011 (2010-2011 Fund year), as proposed by the National Exchange Carrier Association (NECA), the Fund Administrator. The Bureau seeks comment on NECA's proposed compensation rates for Interstate TRS, Speech-to-Speech Services (STS), Captioned Telephone Services (CTS), Internet Protocol (IP) CTS, IP Relay, and Video Relay Services (VRS), for the 2010-2011 Fund year, as well as on NECA's proposals for the carrier contribution factor and funding requirement.

DATES: Comments are due on or before May 14, 2010; reply comments are due on or before May 21, 2010.

ADDRESSES: You may submit comments, identified by CG Docket No. 03-123, by any of the following methods:

• Federal eRulemaking Portal: http://www.regulations.gov. Follow the instructions for submitting comments.

• Federal Communications Commission's Web Site: http://fjallfoss.fcc.gov/ecfs2/. Follow the instructions for submitting comments.

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document.

FOR FURTHER INFORMATION CONTACT: Diane Mason, Consumer and Governmental Affairs Bureau, Disability Rights Office, at (202) 418-7126 (voice), (202) 418-7828 (TTY), or e-mail at Diane.Mason@fcc.gov.

SUPPLEMENTARY INFORMATION: This is a synopsis of the Commission's document DA 10-761, adopted and released on April 30, 2010. The complete text of DA 10-761, NECA's submission and any subsequently filed documents in this matter will be available during regular business hours at the FCC Reference Center, Portals II, 445 12th Street, SW., Room CY-A257, Washington, DC 20554, (202) 418-0270. Document DA 10-761, NECA's submission and any subsequently filed documents in this matter may also be purchased from the Commission's duplicating contractor at its Web site, http://www.bcpiweb.com, or call 1-800-378-3160. A copy of the submission may also be found by searching on ECFS (insert CG Docket No. 03-123 into the Proceeding block).

Pursuant to 47 CFR 1.415 and 1.419, interested parties may file comments on this document. All filings must reference CG Docket No. 03-123. Comments may be filed using: (1) The Commission's Electronic Comment Filing System (ECFS), (2) the Federal Government's eRulemaking Portal, or (3) by filing paper copies. Comments may be filed electronically using the Internet by accessing the ECFS: http://fjallfoss.fcc.gov/ecfs or the Federal eRulemaking Portal: http://www.regulations.gov. Filers should follow the instructions provided on the Web site for submitting comments. In completing the transmittal screen, commenters should include their full name, U.S. Postal Service mailing address, and CG Docket No. 03-123. Parties may also submit an electronic comment by Internet e-mail. To get filing instructions, filers should send an e-mail to ecfs@fcc.gov, and include the following words in the body of the message: “get form.” A sample form and directions will be sent in response.

Parties who choose to file by paper must file an original and four copies of each filing. Filings can be sent by hand or messenger delivery, by commercial overnight courier, or by first-class or overnight U.S. Postal Service mail. All filings must be addressed to the Commission's Secretary, Office of the Secretary, Federal Communications Commission. All hand-delivered or messenger-delivered paper filings for the Commission's Secretary must be delivered to FCC Headquarters at 445 12th St., SW., Room TW-A325, Washington, DC 20554. The filing hours are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class, Express, and Priority mail must be addressed to 445 12th Street, SW., Washington, DC 20554.

Parties who choose to file by paper should also submit their comments on CD-Rom. The CD-Rom should be submitted, along with three paper copies, to: Dana Wilson, Consumer and Governmental Affairs Bureau, Disability Rights Office, 445 12th Street, SW., Room 3-C418, Washington, DC 20554. Such a submission should be on CD-Rom formatted in an IBM compatible format using Word 2003 or compatible software. The CD-Rom should be accompanied by a cover letter and should be submitted in “read only” mode. The CD-Rom should be clearly labeled with the commenter's name, proceeding (including the lead docket number, in this case, CG Docket No. 03-123), type of pleading (comment or reply comment), date of submission, and the name of the electronic file on the CD-Rom. The label should also include the following phrase: “CD-Rom Copy—Not an Original.” Each CD-Rom should contain only one party's pleadings, preferably in a single electronic file. In addition, commenters must send CD-Rom copies to the Commission's copy contractor, Portals II, 445 12th Street, SW., Room CY-B402, Washington, DC 20554.

To request materials in accessible formats for people with disabilities (Braille, large print, electronic files, audio format), send an e-mail to fcc504@fcc.gov or call the Consumer and Governmental Affairs Bureau at (202) 418-0530 (voice), (202) 418-0432 (TTY). This document can also be downloaded in Word and Portable Document Format (PDF) at: http://www.fcc.gov/cgb/dro/trs.html.

Synopsis

On April 30, 2010, pursuant to 47 CFR 64.604(c)(5)(iii)(H), NECA submitted its annual payment formulas and funding requirement estimates for the Fund for the period of July 1, 2010, through June 30, 2011. The Bureau seeks comment on NECA's proposed compensation rates for TRS, STS, CTS, IP CTS, IP Relay, and VRS, for the 2010-2011 Fund year, as well as on NECA's proposals for the carrier contribution factor and funding requirement.

With respect to VRS, the Bureau is particularly seeking comment on whether the Commission should adopt NECA's proposed rates for the 2010-2011 Fund year based on the 2009 average actual historical costs reported in the data submitted to NECA by VRS providers. In this regard, document DA 10-761 also seeks to refresh the record on the Notice of Proposed Rulemaking portion of the 2009 PN and NPRM, which sought comment on whether VRS tiered rates should be recalculated based on data reflecting the actual costs of providing VRS. Telecommunications Relay Services and Speech-to-Speech Services for Individuals with Hearing and Speech Disabilities, Public Notice and Notice of Proposed Rulemaking, CG Docket No. 03-123, FCC 09-39, published at 74 FR 23815, May 21, 2009 (2009 PN and NPRM). In the past, the Commission has relied on projected costs to determine the compensation rate. NECA proposes a set of tiered rates for VRS: Tier I includes monthly minutes up to 50,000; Tier II includes monthly minutes between 50,001 and 500,000; and Tier III includes monthly minutes above 500,000. In one of its proposals, on which the Bureau is particularly seeking comment, NECA then calculates the rate within each tier using weighted averages of VRS providers' actual historical cost data for 2009, including allowances of 1.6% for cash working capital, 3.2% for growth, and $0.0083 per minute for ongoing E911 and ten-digit numbering costs. This calculation results in rates of $5.7754 for Tier I, $6.0318 for Tier II, and $3.8963 for Tier III. The Bureau also particularly seeks comment on whether the Commission should adopt 2010-2011 interim Fund Year rates based on NECA's proposed use of weighted averages in calculating each of the tiers.

NECA also proposes the following per-minute compensation rates for all other forms of TRS: $2.256 for interstate traditional TRS; $3.1566 for STS; $1.6951 for CTS and IP CTS; $1.2985 for IP Relay. Based on these rates, NECA proposes a carrier contribution factor of between 0.00379 and 0.00908, and a funding requirement of between $280.8 million and $673.3 million.

Mark Stone,
Deputy Bureau Chief, Consumer and Governmental Affairs Bureau, Federal Communications Commission.

[FR Doc. 2010-11326 Filed 5-11-10; 8:45 am]

BILLING CODE 6712-01-P